DEPARTMENT OF LABOR

Employment and Training Administration

[TA-W-38,811 and TA-W-38,811A]

Universal Furniture Limited, Morristown, Tennessee and Goldsboro, North Carolina; Amended Certification Regarding Eligibility To Apply for Worker Adjustment Assistance

In accordance with section 223 of the Trade Act of 1974 (19 U.S.C. 2273) the Department of Labor issued a Notice of Certification Regarding Eligibility to Apply for Worker Adjustment Assistance on April 30, 2001, applicable to workers of Universal Furniture Limited, Morristown, Tennessee. The notice was published in the Federal Register on May 18, 2001 (66 FR 27690).

At the request of the petitioners, the Department reviewed the certification for workers of the subject firm. Information shows that worker separations occurred at the Goldsboro, North Carolina location of the subject firm when it closed in March, 2001. The Goldsboro, North Carolina workers were engaged in the production of bedroom and dining room furniture.

Accordingly, the Department is amending the certification to include workers of Universal Furniture Limited, Goldsboro, North Carolina.

The intent of the Department's certification is to include all workers of Universal Furniture Limited who were adversely affected by increased imports.

The amended notice applicable to TA-W-38,811 is hereby issued as follows:

“All workers of Universal Furniture Limited, Morristown, Tennessee (TA-W-38,811) and Goldsboro, North Carolina (TA-W-38,811A) who became totally or partially separated from employment on or after March 10, 2000, through April 30, 2003, are eligible to apply for adjustment assistance under Section 223 of the Trade Act of 1974.”

Signed at Washington, DC, this 12th day of December, 2001.
Linda G. Poole,
Certifying Officer, Division of Trade Adjustment Assistance.

[FR Doc. 01-32212 Filed 12-31-01; 8:45 am]

BILLING CODE 4510-30-M